DEPARTMENT OF COMMERCE

National Oceanic and Atmospheric Administration

[RTID 0648-XE131]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by Blue Planet Strategies. Regulations under the Magnuson-Stevens Fishery Conservation and Management Act and the Atlantic Coastal Fisheries Cooperative Management Act require publication of this notification to provide interested parties the opportunity to comment on applications for proposed EFPs.

DATES: Comments must be received on or before August 13, 2024.

ADDRESSES: You may submit written comments by the following method:

• Email: nmfs.gar.efp@noaa.gov. Include in the subject line “Blue Planet Strategies 2024 On-Demand EFP.”

FOR FURTHER INFORMATION CONTACT: Christine Ford, Fishery Management Specialist, Christine.Ford@noaa.gov, (978) 281-9185.

SUPPLEMENTARY INFORMATION: Blue Planet Strategies submitted a complete application for an EFP to conduct commercial fishing activities that the regulations would otherwise restrict. This EFP would exempt the participating vessels from the following Federal regulations:

Table 1—Requested Exemptions
CFR citation | Regulation | Need for exemption
50 CFR 697.21(b)(2) | Gear marking requirements | For trial of lobster gear with no more than one surface marking on trawls of more than three traps.
50 CFR 648.84(b) | Gear marking requirements | For trial of gillnet gear with no more than one surface marking.

Table 2—Project Summary
Project title | Testing Technologies for Sub-Surface Gear Marking and Buoyless/On-Demand Trap/Pot and Gillnet Fishing Gear and Data Collection Packages to Help Reduce Entanglement Risk.
Project start | Upon issuance.
Project end | 12/31/2025.
Project objectives | To test sub-surface gear marking, on-demand gear, and smart buoy technologies in trap/pot and sink gillnet fisheries.
Project location | Trap/pot: Lobster Management Areas 1 and 3. Gillnet: Statistical Areas 521, 538, and Georges Bank Regulated Mesh Area.
Number of vessels | Trap/pot: 16; gillnet: 4.
Number of trips | Trap/pot: 780; gillnet: 104.
Trip duration (days) | 1.
Total number of days | Trap/pot: 780; gillnet: 104.
Gear type(s) | Trap/pot, gillnet.
Number of tows or sets | Trap/pot: 1,560 total; gillnet: 208 total.
Duration of tows or sets | Trap/pot: 2-4 days; gillnet: 6-8 hours.

Project Narrative

This project is a continuation of a project that is trialing on-demand fishing systems and sub-surface gear marking technologies aimed at reducing entanglement risk to protected species, mainly the North Atlantic right whale, in trap/pot and sink gillnet fisheries. The previous EFP allowed up to 16 trap/pot and 4 gillnet vessels to replace up to 4 of their existing trap trawls or gillnet strings with modified gear that replaces 1 or both vertical lines with acoustic on-demand systems and other alternatives to static buoy lines, including grappling. The previous EFP also allowed up to 12 trap/pot vessels to trial fully on-demand gear in the Atlantic Large Whale Take Reduction Plan (ALWTRP) Restricted Areas.

This EFP would support three current projects, funded through the Saltonstall-Kennedy Program, the Bycatch Reduction Engineering Program (BREP; in collaboration with the Northeast Fisheries Science Center (NEFSC)), and the Atlantic States Marine Fisheries Commission (in collaboration with the NEFSC). The objectives include testing the efficacy of acoustic release devices and other alternatives to static vertical buoy lines in both trap/pot and sink gillnet fisheries; testing and comparing two subsea acoustic marking systems to relocate gear and notify other fishermen to the presence of gear in the absence of surface markings; testing hull-mounted transducers; testing smart buoy technology that signals gear location and movement; and testing the viability of integrating SmartRafts that monitor for whale presence and changing ocean conditions into on-demand gear.

Initially, the researchers would work with 2-4 lobster vessels and 2-3 gillnet vessels, and would expand to the full number of vessels (16 and 4, respectively) in 2025, as additional funding and gear become available. While effort would occur year-round, the researchers anticipate the majority of effort would occur from July through October and fewer than 20 vessels would use on-demand gear at any given time.

For trap/pot gear trials, participants fish between 3 and 50 traps per trawl, in depths ranging from 15 to 122 meters ((m); 50 to 400 feet (ft)). They would modify up to two of their existing trawls to use on-demand devices with either one or no buoy lines. Trials may include the three main acoustic-release devices currently available—lift-bag systems (e.g., SMELTS), buoy and stowed-rope systems (e.g., EdgeTech), and spooled rope systems (e.g., Fiobuoy)—or alternatives, such as grappling. Participants would deploy on-demand trap/pot gear in Lobster Management Area (LMA) 1 and, to a lesser extent, LMA 3, and would target areas that are not as heavily fished by mobile fleets to reduce the risk of gear conflicts.

This EFP would also allow up to 12 trap/pot vessels to trial fully on-demand gear in the ALWTRP Restricted Areas by modifying up to 4 of their existing trawls to use acoustic on-demand devices, for a maximum of 48 trawls in the Restricted Areas. These vessels would fish in the Restricted Areas in addition to, but in coordination with, the vessels authorized under the NEFSC on-demand EFP. Under this EFP, grappling would not be allowed in the ALWTRP Restricted Areas.

For gillnet trials, participants fish a maximum of 21 nets of 91 m (300 ft) or less. They would modify up to 2 of their existing gillnet strings to use on-demand devices with either one or no buoy lines. Currently, gillnet vessels are only testing lift-bag systems, but would also test buoy and stowed-rope systems. Gillnet participants would deploy gear in Statistical Areas 521 and 538, which are in the Georges Bank Regulated Mesh Area.

Some units would be outfitted with EdgeTech acoustic marking technology, acoustic triggers, and software. Other units would be outfitted with Teledyne undersea modem marking technology, acoustic triggers, and software. All units would include smart buoys on each anchoring unit, outfitted with GPS for data collection and lost gear retrieval. Beginning in the Fall of 2024, two units fished by lobster fishermen will be outfitted with a scientific data collection package added to the ropeless gear raft, turning it into a “SmartRaft”. Instruments will collect acoustic data for whale detection (passive acoustic monitors) and environmental data.

Other than gear markings, all trap trawls and gillnet strings would be consistent with the regulations of the management area where the vessel is fishing. This permit would exempt participating vessels from the specified Federal regulations in Federal waters only. The applicant would be responsible for obtaining any necessary state authorizations. This EFP would not exempt the vessels from any requirements imposed by any state, the Endangered Species Act (ESA), the Marine Mammal Protection Act (MMPA), or any other applicable laws.

Blue Planet Strategies and engineering teams representing the respective prototype would oversee initial deployments of on-demand gear. Researchers and participants may use a GoPro System, or other recording device, on deck or beneath the surface to record the success and/or failures of some or all of the retrievals for review and analysis. Participants would record data on standardized data collection sheets (specific to the relevant sub-project). Blue Planet Strategies would implement the same conditions and requirements as those included in their most recent EFP to minimize the chance of causing injury to right whales and mitigate the risk of gear conflicts, as well as minimize the risk of harm to fishermen and researchers, including:

• All vessels would report all right whale sightings to NMFS via ne.rw.survey@noaa.gov or NOAA (866-755-6622) or the U.S. Coast Guard (Channel 16);

• All vessels would provide mandatory, weekly gear loss reports to Blue Planet Strategies; Blue Planet Strategies would provide monthly updates on any gear loss or gear conflicts to the Sustainable Fisheries Division at the Greater Atlantic Region Fisheries Office and summarize all instances of gear conflicts/gear loss in the final report;

• All vessels would retrieve ondemand vertical lines as quickly as possible to minimize time in the water column;

• All vessels would adhere to current approach regulations—a 500-yard (457-m; 1,500-ft) buffer zone created by a surfacing right whale—and must depart immediately at a safe and slow speed, in accordance with current regulations. Hauling gear would cease (by removal) to accommodate the regulation and be reinitiated only after it is reasonable to assume the whale has left the area;

• Vessels would operate within a 10-knot speed limit when transiting Restricted Areas or when whales are observed;

• All vessels would use smart-buoy technology to provide alerts to the fishermen and the research staff within 2 hours of an unplanned release of a stowed line;

• All vessels would use the Trap Tracker or an equivalent application to record positioning details, which would be available to Federal, State, and corresponding enforcement personnel, as well as other fishermen;

• When fishing on-demand trap/pot or gillnet gear without any traditional surface markings, on-demand vertical lines would be marked with unique yellow/black/orange marks above the regional markings, in addition to ALWTRP and Harbor Porpoise Take Reduction Plan regulations (per agreement with the NMFS Atlantic Large Whale Take Reduction Team and Harbor Porpoise Take Reduction Team Coordinator);

• Vessels fishing in ALWTRP Restricted Areas would check real-time right whale sighting information (such as Right Whale Sightings Advisories and Whale ALERT) before setting any gear and avoid areas of high right whale abundance, and all vessels would be recommended to follow this process when setting gear outside the ALWTRP Restricted Areas;

• The principal investigators would update the appropriate regional and state management partners on a regular basis to the level necessary to avoid miscommunication and maintain effective working relationships;

• The principal investigators will proactively communicate the approximate location and intensity of EFP fishing with mobile and fixed gear fleets, with a particular focus on the Restricted Areas. Communications will be tailored to each region and port and may include methods such as in-person meetings with fishermen in ports in advance of research activities to discuss gear locations, email or text contact with fishing vessels identified by the Vessel Monitoring System as fishing in the research area, Coast Guard notices to mariners, and any other methods to reduce the risk of potential gear conflicts. The principal investigators will make information-sharing decisions while protecting participant confidentiality and managing the risk of negative repercussions to participants; and

• A copy of the final report would be provided to NMFS within 6 months of the expiration of the EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and may be posted for public viewing without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: July 23, 2024.
Lindsay Fullenkamp,
Acting Director, Office of Sustainable Fisheries, National Marine Fisheries Service.

[FR Doc. 2024-16569 Filed 7-26-24; 8:45 am]

BILLING CODE 3510-22-P